DEPARTMENT OF JUSTICE

[OMB Number 1121-0311]

Agency Information Collection Activities; Proposed eCollection eComments Requested; Revision of a Currently Approved Collection: National Inmate Survey in Prisons (NIS-4P)

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995.

DATES: Written comments and recommendations for the proposed information collection should be sent within 30 days of publication of this notice to www.reginfo.gov/public/do/PRAMain. Find this particular information collection by selecting “Currently under 30-day Review—Open for Public Comments” or by using the search function. Comments are encouraged and will be accepted for 30 days until December 15, 2022.

FOR FURTHER INFORMATION CONTACT: If you have additional comments especially on the estimated public burden or associated response time, suggestions, or need a copy of the proposed information collection instrument with instructions or additional information, please contact Amy Lauger, Supervisory Statistician, Re-entry, Recidivism, and Special Projects Unit, Bureau of Justice Statistics, 810 Seventh Street NW, Washington, DC 20531 (email: Amy.Lauger@usdoj.gov; telephone: 202-307-5955).

SUPPLEMENTARY INFORMATION: Written comments and suggestions from the public and affected agencies concerning the proposed collection of information are encouraged. Your comments should address one or more of the following four points:

• Evaluate whether the proposed collection of information is necessary for the proper performance of the functions of the Bureau of Justice Statistics, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Revision of a Currently Approved Collection.

2. The Title of the Form/Collection: National Inmate Survey in Prisons (NIS-4P).

3. The agency form number, if any, and the applicable component of the Department sponsoring the collection: There is no agency form number at this time. The applicable component within the Department of Justice is the Bureau of Justice Statistics, in the Office of Justice Programs.

4. Affected public who will be asked or required to respond, as well as a brief abstract: Respondents will primarily be Federal or State Government entities. The work under this clearance will be used to produce estimates for the incidence and prevalence of sexual victimization within correctional facilities as required under the Prison Rape Elimination Act of 2003 (Pub. L. 108-79). The Bureau of Justice Statistics uses this information in published reports and for the U.S. Congress, Executive Office of the President, practitioners, researchers, students, the media, and others interested in criminal justice statistics.

Abstract: In 2003, the Prison Rape Elimination Act (PREA or the Act) was signed into law. The Act requires BJS to “carry out, for each calendar year, a comprehensive statistical review and analysis of the incidence and effects of prison rape.” The Act further instructs BJS to collect survey data: “. . .the Bureau shall. . .use surveys and other statistical studies of current and former inmates. . .”

To implement the Act, BJS developed the National Prison Rape Statistics Program (NPRS), which includes four separate data collection efforts: the Survey on Sexual Violence (SSV), the National Inmate Survey (NIS), the National Survey of Youth in Custody (NSYC), and the National Former Prisoner Survey (NFPS). The NIS collects information on sexual victimization self-reported by inmates held in adult correctional facilities, both prisons and jails. The NIS has been conducted three times, in 2007 (NIS-1), in 2008-09 (NIS-2), and in 2011-12 (NIS-3). Each iteration of NIS was conducted in at least one facility in all 50 states and the District of Columbia. In each iteration of the survey, inmates completed the survey using an audio computer-assisted self-interview (ACASI), whereby they heard questions and instructions via headphones and responded to the survey items via a touch-screen interface.

The collection requested in this notice is the fourth iteration of the National Inmate Survey. For NIS-4, administration of the survey in prisons will take place separately from survey administration in jails. This collection request is specific to conducting the survey in adult prison facilities.

BJS submitted this collection for approval in 2020 in anticipation of fielding the survey in 2021. The survey was delayed due to COVID-19 and fielding is now set to begin in 2023. The collection is slightly modified from the version approved in 2020.

The main difference is a series of edits to items related to sexual orientation and gender identity based on latest recommendations from the National Institute of Health. In addition, revisions have been made to reflect the possibility that a transgender man could be housed in a women's prison or that a transgender woman could be housed in a men's prison. In previous rounds of the NIS, respondents were routed through the survey assuming that prisons housed inmates based on anatomy rather than gender identity. We have revised our questions to make sure they are appropriate for all inmates living in a sampled facility. A module on parental involvement has been removed from the survey.

5. An estimate of the total number of respondents and the amount of time estimated for an average respondent to respond: Prior to data collection commencing in 2023, BJS will coordinate the logistics of NIS-4 survey administration with staff at federal and state correctional facilities. It is estimated that 241 facility respondents will devote 150 minutes of time to this coordination effort. During data collection in 2023, an estimated 75,674 federal and state prison inmates will be interviewed, with the average interview lasting an estimated 35 minutes.

6. An estimate of the total public burden (in hours) associated with the collection: The total estimated NIS-4 in Prisons public burden, inclusive of facility staff and respondent burden estimates and assuming a 100% response rate, is 77,288 hours. This comprises 19,522 hours of facility staff burden (coordinating the administration, completing the facility questionnaire, and escorting inmates to and from the interviews) and 57,766 hours of respondent interviewing burden. The third iteration of NIS had around a 65% response rate, so the true burden will likely be much lower.

If additional information is required contact: Robert Houser, Department Clearance Officer, Policy and Planning Staff, Justice Management Division, United States Department of Justice, Two Constitution Square, 145 N Street NE, 3E.206, Washington, DC 20530.

Dated: November 8, 2022.
Robert Houser,
Department Clearance Officer for PRA, Policy and Planning Staff, Office of the Chief Information Officer, U.S. Department of Justice.

[FR Doc. 2022-24780 Filed 11-14-22; 8:45 am]

BILLING CODE 4410-18-P